FEDERAL COMMUNICATIONS COMMISSION

47 CFR Part 73

[DA 01-164, MM Docket No. 01-16, RM-10029]

Digital Television Broadcast Service; Eugene, OR

AGENCY: Federal Communications Commission.

ACTION: Proposed rule.

SUMMARY: The Commission requests comments on a petition filed by KEZI, Inc., licensee of station KEZI-TV, NTSC channel 9, Eugene, Oregon, requesting substitution of DTV channel 44 for station KEZI-TV's assigned DTV channel 14. DTV Channel 44 can be allotted to Eugene, Oregon, in compliance with the principle community coverage requirements of Section 73.625(a) at reference coordinates (44-06-57 N. and 122-59-57 W.). As requested, we propose to allot DTV Channel 44 to Eugene with a power of 548 and a height above average terrain (HAAT) of 501.5 meters.

DATES: Comments must be filed on or before March 19, 2001, and reply comments on or before April 3, 2001.

ADDRESSES: Federal Communications Commission, 445 12th Street, SW., Room TW-A325, Washington, DC 20554. In addition to filing comments with the FCC, interested parties should serve the petitioner, or its counsel or consultant, as follows: Howard J. Braun, Laura A. Otis, Rosenman & Colin LLP, 805 15th Street, NW, 9th Floor, Washington, DC 20005 (Counsel for KEZI, Inc.).

FOR FURTHER INFORMATION CONTACT: Pam Blumenthal, Mass Media Bureau, (202) 418-1600.

SUPPLEMENTARY INFORMATION: This is a synopsis of the Commission's Notice of Proposed Rule Making, MM Docket No. 01-16, adopted January 25, 2001, and released January 26, 2001. The full text of this Commission decision is available for inspection and copying during normal business hours in the FCC Reference Center 445 12th Street, SW., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under Oregon is amended by removing DTV Channel 14 and adding DTV Channel 44 at Eugene.

Federal Communications Commission.
Barbara A. Kreisman,
Chief, Video Services Division, Mass Media Bureau.

[FR Doc. 01-2756 Filed 1-31-01; 8:45 am]

BILLING CODE 6712-01-P